BROADCASTING BOARD OF GOVERNORS

Sunshine Act Meeting

DATE AND TIME: Thursday, December 14, 2012, 1:00 p.m. EST.

PLACE: Cohen Building, Room 3321, 330 Independence Ave. SW., Washington, DC 20237.

SUBJECT: Notice of Meeting of the Broadcasting Board of Governors.

SUMMARY: The Broadcasting Board of Governors (BBG) will be meeting at the time and location listed above. At the meeting, the BBG will receive and consider a report and recommendations from the Governance Committee regarding the creation of the position of Chief Executive Officer of United States international broadcasting, receive and consider a progress report from the Strategy and Budget Committee, and consider two resolutions honoring employees for their service. The BBG will recognize the anniversaries of Agency language services, receive a report regarding a recent official trip to Burma, receive a budget update, and receive reports from the International Broadcasting Bureau Director, the Technology, Services and Innovation Director, the Communications and External Affairs Director, the Strategy and Development Director, the VOA Director, the Office of Cuba Broadcasting Director, and the Presidents of Radio Free Europe/Radio Liberty, Radio Free Asia, and the Middle East Broadcasting Networks.

The public may attend this meeting in person at the address listed above as seating capacity permits. Member of the public seeking to attend the meeting in person must register at http://bbgboardmeetingdec2012.eventbrite.com by 12:00 p.m. (EST) on December 13. For more information, please contact BBG Public Affairs at (202) 203-4400 or by email at pubaff@bbg.gov. This meeting will also be available for public observation via streamed webcast, both live and on-demand, on the BBG's public Web site at www.bbg.gov. Information regarding this meeting, including any updates or adjustments to its starting time, can also be found on the Agency's public Web site.

Contact Person for More Information: Persons interested in obtaining more information should contact Paul Kollmer-Dorsey at (202) 203-4545.

Paul Kollmer-Dorsey,
Deputy General Counsel.

[FR Doc. 2012-29833 Filed 12-6-12; 11:15 am]

BILLING CODE 8610-01-P